TENNESSEE VALLEY AUTHORITY

Sunshine Act Meeting

AGENCY HOLDING THE MEETING: Tennessee Valley Authority (Meeting No. 1519)

Time and Date: 9 am (CDT), May 11, 2000.

Place: Adam's Mark Memphis Hotel, Tennessee A Room, 939 Ridge lake Boulevard, Memphis, Tennessee.

Status: Open.

Agenda

Approval of minutes of meeting held on April 19, 2000.

New Business

C—Energy

C1. Contract with General Electric Company for the manufacture and turnkey installation of new combined-cycle power plant and cogeneration projects for 2003.

C2. Supplement to indefinite quantity Contract No. 00P61-259355-001 with Thomas & Betts Corporation for transmission and substation steel components and structures.

E—Real Property Transactions

E1. Grant of a permanent easement for a road to the City of Decatur, Alabama, affecting approximately 2.2 acres of land on Wheeler Reservoir in Morgan County, Alabama (Tract No. XTWR-111H).

E2. Grant of a permanent easement for a highway improvement project to the Tennessee Department of Transportation, affecting approximately 3.1 acres of land on Norris Reservoir in Union County, Tennessee (Tract No. XTNR-112H).

Information Items

1. Approval for TVA to pay the first year of membership dues in the TVA Retirees Association for TVA retirees.

For more information: Please call TVA Public Relations at (423-632-6000, Knoxville, Tennessee. Information is also available at TVA's Washington Office (202) 898-2999. People who plan to attend the meeting and have special needs should call (865) 632-6000.

Dated: May 4, 2000.
Edward S. Christenbury,
General Counsel and Secretary.

[FR Doc. 00-11673 Filed 5-5-00; 2:08 pm]

BILLING CODE 8120-08-M